DEPARTMENT OF JUSTICE

Office of Justice Programs

[OMB Number 1121-0271]

Bureau of Justice Assistance; Agency Information Collection Activities: Proposed Collection; Comments Requested

ACTION: 60-Day Notice of Information Collection Under Review—Extension of currently approved collection.

Bureau of Justice Assistance Application Form: Project Safe Neighborhood Semi-Annual Researcher Reporting Form.

The Department of Justice, Office of Justice Programs, Bureau of Justice Assistance, has submitted the following information collection request for review and clearance in accordance with the Paperwork Reduction Act of 1995. This proposed information collection is published to obtain comments from the public and affected agencies.

Comments are encouraged and will be accepted for “sixty days” until October 16, 2006. If you have additional comments, suggestions, or need a copy of the proposed information collection instrument with instructions or additional information, please contact M. Pressley at 202-353-8643 or 1-866-859-2687, Bureau of Justice Assistance, Office of Justice Programs, U.S. Department of Justice, 810 7th Street, NW., Washington, DC 20531.

Written comments and suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information:

(1) Type of information collection: Extension of currently approved collection.

(2) The title of the form/collection: Project Safe Neighborhood Semi-Annual Researcher Reporting Form.

(3) The agency form number, if any, and the applicable component of the Department sponsoring the collection: Bureau of Justice Assistance, Office of Justice Programs, United States Department of Justice.

(4) Affected public who will be asked or required to respond, as well as a brief abstract: State and local law enforcement agencies.

Other: None.

Abstract: One of the central elements of PSN is the requirement that PSN task forces collect data on outcome measures related to the level of firearms violence in each judicial district and information on the strategies used to combat that gun violence. This information is essential if we are strategically to target our financial resources for maximum impact, and is a necessary element in assessing success or failure and providing the information required to make mid-course corrections in our local programs.

To accomplish the data collection at the local level, the Bureau of Justice Assistance has funded a research partner to work with each of the 94 districts.¹ The grant program provided $150,000 to a researcher in each district to be spent over three years. The data collected by these researchers has allowed for program assessment at the local level, but also has provided the opportunity to gauge the results of the initiative across the country. Understanding the gun violence problem throughout the country will allow the Department to identify trends and adapt the program at a national level to meet the needs of the districts. Additionally, by collecting both outcome and intervention measures, the Department can identify programs that demonstrate success in reducing targeted gun crime. This information is essential to evaluating the program and providing feedback at the national level that can inform management decisions.

¹ While there are 94 judicial districts, there are only 93 United States Attorneys and accordingly 93 research partners. The Northern Mariana Islands and Guam share one research partner.

(5) An estimate of the total number of respondents and the amount of time estimated for an average respondent to respond/reply: It is estimated that no more than 93 respondents will apply twice a year. Each application takes approximately 60 minutes to complete.

(6) An estimate of the total public burden (in hours) associated with the collection: The total hour burden to complete the applications is 186. (93 respondents × 1 hour per respondent × 2 responses per year = 186 burden hours) If additional information is required, contact: Ms. Lynn Bryant, Clearance Officer, U.S. Department of Justice, Policy and Planning Staff, Justice Management Division, 601 D Street, NW., Suite 1600, Washington, DC, 20530, or via facsimile at (202) 514-1534.

Dated: August 9, 2006.
Lynn Bryant,
Clearance Officer, Justice Management Division, United States Department of Justice.

[FR Doc. E6-13354 Filed 8-14-06; 8:45 am]

BILLING CODE 4410-18-P